DEPARTMENT OF THE INTERIOR

Bureau of Safety and Environmental Enforcement

[Docket ID BSEE-2022-0014; EEEE500000 234E1700D2 ET1SF0000.EAQ000 OMB Control Number 1014-0026]

Agency Information Collection Activities; Submission to the Office of Management and Budget for Review and Approval; Application for Permit To Modify (APM) and Supporting Documentation

AGENCY: Bureau of Safety and Environmental Enforcement, Interior.

ACTION: Notice of information collection; request for comment.

SUMMARY: In accordance with the Paperwork Reduction Act (PRA) of 1995, the Bureau of Safety and Environmental Enforcement (BSEE) proposes to renew an information collection.

DATES: Interested persons are invited to submit comments on or before July 17, 2023.

ADDRESSES: Written comments and recommendations for the proposed information collection should be sent within 30 days of publication of this notice to www.reginfo.gov/public/do/PRAMain. Find this particular information collection by selecting “Currently under 30-day Review—Open for Public Comments” or by using the search function. Please provide a copy of your comments to Nikki Mason, BSEE ICCO, 45600 Woodland Road, Sterling, VA 20166; or by email to nikki.mason@bsee.gov. Please reference OMB Control Number 1014-0026 in the subject line of your comments.

FOR FURTHER INFORMATION CONTACT: To request additional information about this ICR, contact Nikki Mason by email at nikki.mason@bsee.gov, or by telephone at (703) 787-1607. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on August 4, 2022 (87 FR 47791).

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The regulations at 30 CFR 250 stipulate the various requirements that must be submitted with an APM. The form and the numerous submittals that are included and/or attached to the form are the subject of this collection. This request also covers related Notices to Lessees and Operators (NTLs) that BSEE issues to clarify, supplement, or provide additional guidance on some aspects of our regulations.

The BSEE uses the information to ensure safe well control, completion, workover, and decommissioning operations and to protect the human, marine, and coastal environment. Among other things, BSEE specifically uses the information to ensure: the well control, completion, workover, and decommissioning unit (drilling/well operations) is fit for the intended purpose; equipment is maintained in a state of readiness and meets safety standards; each drilling/well operation crew is properly trained and able to promptly perform well-control activities at any time during well operations; compliance with safety standards; and the current regulations will provide for safe and proper field or reservoir development, resource evaluation, conservation, protection of correlative rights, safety, and environmental protection. We also review well records to ascertain whether the operations have encountered hydrocarbons or H2S and to ensure that H2S detection equipment, personnel protective equipment, and training of the crew are adequate for safe operations in zones known to contain H2S and zones where the presence of H2S is unknown.

Title of Collection: 30 CFR part 250, Application for Permit to Modify (APM) and supporting documentation.

OMB Control Number: 1014-0026.

Form Number: BSEE-0124.

Type of Review: Extension of a currently approved collection.

Respondents/Affected Public: Potential respondents include Federal OCS oil, gas, and sulfur lessees and/or operators and holders of pipeline rights-of-way.

Total Estimated Number of Annual Respondents: Currently there are approximately 555 Federal OCS oil, gas, and sulfur lessees and holders of pipeline rights-of-way. Not all the potential respondents will submit information in any given year, and some may submit multiple times.

Total Estimated Number of Annual Responses: 11,322.

Estimated Completion Time per Response: Varies from 10 minutes to 154 hours, depending on activity.

Total Estimated Number of Annual Burden Hours: 16,431.

Respondent's Obligation: Mandatory.

Frequency of Collection: Generally, on occasion and varies by section.

Total Estimated Annual Nonhour Burden Cost: $6,387,110.

Burden Table
Citation 30 CFR 250 APM's | Reporting or recordkeeping requirement * | Hour burden | Average number of annual responses | Annual burden hours (Rounded)
| Non-Hour Cost Burdens
Subparts D, E, F, G, H, P, Q | Submit APM plans (BSEE-0124). (This burden represents only the filling out of the form, the requirements are listed separately below) | 1 hour | 1,718 applications | 1,718
|  | 1,718 applications × $145 application fee = $249,110
Subparts D, E, F, G, H, P, Q | Submit Revised APM plans (BSEE-0124). (This burden represents only the filling out of the form, the requirements are listed separately below) [no fee charged] | 1 hour | 1,102 applications | 1,102
Subtotal |  |  | 2,820 responses | 2,820 hours
|  |  | $249,110 non-hour cost burdens
Subpart A
125 | Submit evidence of your fee for services receipt | Exempt under 5 CFR 1320.3(h)(1) |  | 0
197 | Written confidentiality agreement | Exempt under 5 CFR 1320.5(d)(2) |  | 0
Subpart C
300(b)(1), (2) | Obtain approval to add petroleum-based substance to drilling mud system or approval for method of disposal of drill cuttings, sand, & other well solids, including those containing NORM | 154 hours | 1 request | 154
Subtotal of Subpart C |  |  | 1 response | 154 hour burdens
Subpart D
460(a); 465 | There are some regulatory requirements that give respondents the option of submitting information with either their APD or APM; industry advised us that when it comes to this particular subpart, they submit a Revised APD | Burden covered under 30 CFR 250, 1014-0025 |  | 0
471(c) | Submit SCCE capabilities for Worst Case Discharge (WCD) rate and demonstrate that your SCCE capabilities will meet the criteria in § 250.470(f) under the changed well design. (Arctic) | 10 hours | 2 submittals | 20
471(c); 470(f); 465(a) | Submit re-evaluation of your SCCE capabilities if well design changes; include any new WCD rate and demonstrate that your SCCE capabilities will comply with § 250.470(f) | 5 | 2 submittals | 10
Subtotal of Subpart D |  |  | 4 responses | 30 hour burdens
Subpart E
513 | Obtain written approval for well-completion operations. Submit information, including but not limited to, request for completion (including changes); description of well-completion procedures; statement of expected surface pressure, type and weight of completion fluids; schematic drawing; a partial electric log; H2S presence or if unknown, service fee receipt | 1 hour | 175 submittals | 175
518(f) | Submit descriptions and calculations of production packer setting depth(s) | 1 hour | 50 submittals | 50
526(a) | Submit a notification of corrective action of the diagnostic test | 15 mins | 68 notifications | 17
Subtotal of Subpart E |  |  | 293 responses | 242 hour burdens
Subpart F
613(a), (b) | Request approval to begin other than normal workover, which includes description of procedures, changes in equipment, schematic, info about H2S, etc | 1 hour | 802 requests | 802
613(c) | If completing a new zone, submit reason for abandonment and statement of pressure data | 20 mins | 195 submittals | 65
613(d) | Submit work as performed 30 days after completing the well-workover operation | 20 mins | 755 submittals | 252
619(f) | Submit descriptions and calculations of production packer setting depth(s) | 1 hour | 50 submittals | 50
Subtotal of Subpart F |  |  | 1,802 responses | 1,169 hour burdens
Subpart G
701 | Identify and discuss your proposed alternate procedures or equipment [the request to use alternative procedures/equipment is covered under 1014-0022] | 3 hours | 78 submittals | 234
702 | Identify and discuss the departure from requirements [the request to depart from requirements is covered under 1014-0022] | 2 hours | 55 submittals | 110
713 | Submit required information to use a MODU for well operations, including fitness & foundation requirements, contingency plan for moving off location, current monitoring (description of specific current speeds & specific measures to curtail rig operations and move off location) | 1.5 hours | 210 submittals | 315
720(b) | Obtain approval to displace kill weight fluid with detailed step-by-step written procedures that include, but are not limited to, number of barriers, tests, BOP procedures, fluid volumes entering and leaving wellbore procedures | 1.5 hours | 151 submittals | 227
721(g) | Request approval for test procedures and criteria for a successful negative pressure test, including any changes | 1 hour | 380 requests | 380
731 | Submit complete description of BOP system and components; schematic drawings; certification by ITP (additional ITP if BOP is subsea, in HTHP, or surface on floating facility); autoshear, deadman, EDS systems | 5 hours | 198 submittals | 990
|  | $31,000 × 198 submittals = $6,138,000
733 | Description of annulus monitoring plan and how you will secure the well in the event a leak is detected | 30 mins | 248 submittals | 124
737(d)(2) | Submit test procedures for District Manager approval for initial test when using water on surface BOP | 30 mins. | 48 submittals | 24
737(d)(3) | Submit test procedures for District Manager approval to stump test a subsea BOP; including how you will test each ROV function for approval | 30 mins | 45 submittals | 23
737(d)(4) | Submit test procedures for District Manager approval to perform an initial subsea BOP test; including how you will test each ROV function for approval | 30 mins | 48 submittals | 24
737(d)(12) | Submit test procedures for District Manager approval, including schematics of the actual controls and circuitry of the system used during an actual autoshear or deadman event | 1 hour | 260 submittals | 260
738(m) | Request approval from District Manager to utilize other well-control equipment; include report from BAVO on equipment design & suitability; other information required by District Manager | 2 hours | 311 requests | 622
738(n) | Indicate which pipe/variable bore rams have no current utility or well-control purposes | 45 mins | 261 submittals | 196
750(a)(4) | Request approval to conduct operations without downhole check valves, describe alternate procedures and equipment | 1 hour | 748 requests | 748
Subtotal of Subpart G |  |  | 3,041 responses | 4,277 hour burdens
|  |  | $6,138,000 non-hour costs burden
Subpart H
801(h) | Request approval to temporarily remove safety device for non-routine operations | 30 mins | 52 approvals | 26
804(a) | Submit detailed information that demonstrates the SSSVs and related equipment capabilities re HPHT; include discussions of design verification analysis and validation, functional listing process, and procedures used; explain fit-for-service | 1 hour | 18 submittals | 18
Subtotal of Subpart H |  |  | 70 responses | 44 hour burdens
Subpart P
It needs to be noted that for Sulfur Operations, while there may be burden hours listed that are associated with some form of an APM submittal, we have not had any sulfur leases for numerous years, therefore, we are submitting minimal burden
1618(a), (b), (c) | Request approval/submit requests for changes in plans, changes in major drilling equipment, proposals to deepen, sidetrack, complete, workover, or plug back a well, or engage in similar activities; include but not limited to, detailed statement of proposed work changed; present state of well; after completion, detailed report of work done and results w/in 30 days of completion; public information copies | 1 hour | 1 plan | 1
1619(b) | Submit duplicate copies of the records of all activities related to and conducted during the suspension or temporary prohibition | 25 mins | 1 submittal | 1
1622(a), (b) | Obtain written approval to begin operations; include description of procedures followed; changes to existing equipment, schematic drawing; zones info re H2S, etc | 20 mins | 1 approval | 1
1622(c)(2) | Submit results of any well tests and a new schematic of the well if any subsurface equipment has been changed | 10 mins | 1 submittal | 1
Subtotal of Subpart P |  |  | 4 responses | 4 hour burdens
Subpart Q
1704 | Request approval of well abandonment operations | 20 mins | 705 requests | 235
1704(g) | Submit with a final well schematic, description, nature and quantities of material used; relating to casing string—description of methods used, size and amount of casing and depth | 1 hour | 430 submittals | 430
1712; 1704(g) | Obtain and receive approval before permanently plugging a well or zone. Include in request, but not limited to, reason plugging well, with relevant information; well test and pressure data; type and weight of well control fluid; a schematic listing mud and cement properties; plus testing plans. Submit Certification by a Registered Professional Engineer of the well abandonment design and procedures; certify the design | 2.5 hours | 251 certifications | 628
| Obtain and receive approval before permanently plugging a well or zone. Include in request, but not limited to max surface pressure and determination; description of work; well depth, perforated intervals; casing and tubing depths/details, plus locations, types, lengths, etc | 2.5 hours | 438 submittals | 1,095
1721; 1704(g) | Submit the applicable information required to temporarily abandon a well for approval; after temporarily plugging a well, submit well schematic, description of remaining subsea wellheads, casing stubs, mudline suspension equipment and required information of this section; submit certification by a Registered Professional Engineer of the well abandonment design and procedures; certify design | 4 hours | 1,278 submittals | 5,112
1722(a) | Request approval to install a subsea protective device | 1 hour | 18 requests | 18
1723(b) | Submit a request to perform work to remove casing stub, mudline equipment, and/or subsea protective covering | 1 hour | 161 requests | 161
1743(a) | Submit signed certification; date of verification work and vessel; area surveyed; method used; results of survey including debris or statement that no objects were recover; a post-trawling plot or map showing area | 2 hours | 6 certifications | 12
Subtotal of Subpart Q |  |  | 3,287 responses | 7,691 hour burdens
Total Burden |  |  | 11,322 Responses | 16,431 Burden Hours
|  |  | $6,387,110 non-hour cost burdens

An agency may not conduct, or sponsor and a person is not required to respond to a collection of information unless it displays a currently valid OMB control number.

The authority for this action is the Paperwork Reduction Act of 1995 (44 U.S.C. 3501 et seq.).

Kirk Malstrom,
Chief, Regulations and Standards Branch.

[FR Doc. 2023-12898 Filed 6-15-23; 8:45 am]

BILLING CODE 4310-VH-P